Proclamation 10553 of April 14, 2023

National Volunteer Week, 2023

By the President of the United States of America

A Proclamation

This week, we honor the selfless spirit of Americans who volunteer, and we sound the call for more Americans to seize opportunities to serve their communities.

Every day across America, volunteers are performing extraordinary acts of service. They are repairing and rebuilding homes, educating our youth, and connecting people to jobs. They are supporting veterans and military families, helping to run our elections, and combating climate change. In the aftermath of natural disasters, neighbors volunteer to restore communities and cook hot meals. And amid a pandemic, volunteers have stepped forward to help administer vaccines and provide lifesaving resources to people in need.

Volunteering defines America. Our Nation is a place where light triumphs over darkness, where we seek to lift everyone up, and where we lead not by the example of our power but by the power of our example. As those who volunteer know firsthand, service also benefits the volunteer. It can teach important skills, help build professional networks, and provide an empowering sense of purpose. Volunteering brings people together, uniting us around our common belief in the dignity and equality of every person and giving us a chance to learn from others we might otherwise never meet.

This year marks the 30th anniversary of AmeriCorps. In the decades since President Clinton created this Federal agency, more than a million Americans have fanned out to communities across our country to serve neighbors, respond and rebuild after natural disasters, educate students in need, and provide critical support in the face of public health challenges like the opioid crisis and COVID-19. Every year, AmeriCorps matches over 140,000 AmeriCorps Seniors volunteers with service opportunities. AmeriCorps embodies our Nation's commitment to service, and I was proud to strengthen it with a historic $1 billion investment through our American Rescue Plan. My new Budget calls on the Congress to raise the living allowance provided to AmeriCorps members, making national service more accessible to Americans of all backgrounds. It also calls for the largest-ever request in funding for the Peace Corps in order to expand opportunities for Americans to volunteer overseas. For over 60 years, Peace Corps volunteers have worked in dozens of countries on projects related to agriculture, community development, education, environmental protection, health, and improving opportunities for youth.

Additionally, my Administration hosted the United We Stand Summit, convening civic, faith, philanthropic, and business leaders to address the hate-fueled violence that threatens our democracy. Responding to this call to action, leading community organizations announced a new partnership, A Nation of Bridgebuilders, to train tens of thousands of Americans in techniques that build bridges across diverse identities and backgrounds—including storytelling, finding shared values, and volunteering together in common purpose. This initiative will host over 1,000 service events in more than 300 communities, improving lives and bringing Americans closer together.

This week, I encourage all Americans to seek volunteer opportunities near you and to visit AmeriCorps.gov and peacecorps.gov/volunteer to learn more about getting involved. Large and small acts of service can mean so much—lifting spirits, opening up new doors of opportunity, and cementing our identity as a great country full of good people.

NOW, THEREFORE, I, JOSEPH R. BIDEN JR., President of the United States of America, by virtue of the authority vested in me by the Constitution and the laws of the United States, do hereby proclaim April 16 through April 22, 2023, as National Volunteer Week. I call upon all Americans to observe this week by volunteering in service projects across the country and pledging to make service a part of their daily lives.

IN WITNESS WHEREOF, I have hereunto set my hand this fourteenth day of April, in the year of our Lord two thousand twenty-three, and of the Independence of the United States of America the two hundred and forty-seventh.

[FR Doc. 2023-08431

Filed 4-18-23; 11:15 am]

Billing code 3395-F3-P